DEPARTMENT OF ENERGY

Federal Energy Regulatory Commission

Combined Notice of Filings #1

Take notice that the Commission received the following electric corporate filings:

Docket Numbers: EC25-73-000.

Applicants: Algonquin Power & Utilities Corp. (“AQN”), Starboard Value LP.

Description: Joint Application for Authorization Under Section 203 of the Federal Power Act of Algonquin Power & Utilities Corp., et al.

Filed Date: 4/1/25.

Accession Number: 20250401-5616.

Comment Date: 5 p.m. ET 4/22/25.

Docket Numbers: EC25-74-000.

Applicants: LWP Lessee, LLC, F8 Renewables CAMN Funding, LLC, TAQA US Lakefield Holdings, LLC.

Description: Joint Application for Authorization Under Section 203 of the Federal Power Act of LWP Lessee, LLC, et al.

Filed Date: 3/28/25.

Accession Number: 20250328-5462.

Comment Date: 5 p.m. ET 4/18/25.

Docket Numbers: EC25-75-000.

Applicants: Silicon Ranch Corporation, Hattiesburg Farm, LLC, Lancaster Solar LLC, Russellville Solar LLC, SR Ailey, LLC, SR Arlington II, LLC, SR Baxley, LLC, SR Bell Buckle, LLC, SR Canadaville, LLC, SR Canadaville Lessee, LLC, SR Cedar Springs, LLC, SR Clay, LLC, SR DeSoto I, LLC, SR DeSoto I Lessee, LLC, SR DeSoto II, LLC, SR DeSoto III, LLC, SR DeSoto III Lessee, LLC, SR Georgetown, LLC, SR Georgia Portfolio I MT, LLC, SR Hazlehurst III, LLC, SR Lambert I, LLC, SR Lambert II, LLC, SR Lumpkin, LLC, SR McKellar, LLC, SR McKellar Lessee, LLC, SR McNeal, LLC, SR Meridian III, LLC, SR Millington, LLC, SR Perry, LLC, SR Snipesville, LLC, SR Snipesville II, LLC, SR Snipesville III, LLC, SR South Loving LLC, SR Toombs, LLC, SR Toombs Lessee, LLC, SR Turkey Creek, LLC, SR Georgia Portfolio II Lessee, LLC, AIP Yosemite Holding (US) LP, SR Terrell, LLC.

Description: Application for Authorization Under Section 203 of the Federal Power Act of Silicon Ranch Corporation.

Filed Date: 4/3/25.

Accession Number: 20250403-5116.

Comment Date: 5 p.m. ET 4/24/25.

Take notice that the Commission received the following exempt wholesale generator filings:

Docket Numbers: EG25-274-000.

Applicants: Ninnescah Flats Solar, LLC.

Description: Ninnescah Flats Solar, LLC submits Notice of Self-Certification of Exempt Wholesale Generator Status.

Filed Date: 4/3/25.

Accession Number: 20250403-5058.

Comment Date: 5 p.m. ET 4/24/25.

Docket Numbers: EG25-275-000.

Applicants: Blevins Storage, LLC.

Description: Blevins Storage, LLC submits Notice of Self-Certification of Exempt Wholesale Generator Status.

Filed Date: 4/3/25.

Accession Number: 20250403-5074.

Comment Date: 5 p.m. ET 4/24/25.

Docket Numbers: EG25-276-000.

Applicants: Blevins Solar, LLC.

Description: Blevins Solar, LLC submits Notice of Self-Certification of Exempt Wholesale Generator Status.

Filed Date: 4/3/25.

Accession Number: 20250403-5108.

Comment Date: 5 p.m. ET 4/24/25.

Take notice that the Commission received the following Complaints and Compliance filings in EL Dockets:

Docket Numbers: EL25-72-000.

Applicants: Theresa Ghiorzi and Alfred T. Ghiorzi v. PJM Interconnection, LLC.

Description: Complaint of Theresa Ghiorzi and Alfred T. Ghiorzi v. PJM Interconnection, LLC.

Filed Date: 4/3/25.

Accession Number: 20250403-5030.

Comment Date: 5 p.m. ET 4/23/25.

Take notice that the Commission received the following electric rate filings:

Docket Numbers: ER10-2964-016.

Applicants: Selkirk Cogen Partners, L.P.

Description: Notice of Non-Material Change in Status of Selkirk Cogen Partners, L.P.

Filed Date: 3/5/25.

Accession Number: 20250305-5287.

Comment Date: 5 p.m. ET 4/24/25.

Docket Numbers: ER25-848-002.

Applicants: Merced BESS, LLC.

Description: Tariff Amendment: Merced BESS LLC MBR Tariff to be effective 1/10/2025.

Filed Date: 4/3/25.

Accession Number: 20250403-5000.

Comment Date: 5 p.m. ET 4/24/25.

Docket Numbers: ER25-1864-001.

Applicants: Public Service Company of New Mexico.

Description: Tariff Amendment: Amendment to Effective Date to be effective 3/14/2025.

Filed Date: 4/3/25.

Accession Number: 20250403-5097.

Comment Date: 5 p.m. ET 4/24/25.

Docket Numbers: ER25-1865-000.

Applicants: Public Service Company of Colorado (PSCo).

Description: Formula Rate Charges and Transmission Formula Rate Charges for 2024 Post-Retirement Benefits Other than Pensions of Public Service Company of Colorado.

Filed Date: 4/1/25.

Accession Number: 20250401-5617.

Comment Date: 5 p.m. ET 4/22/25.

Docket Numbers: ER25-1866-000.

Applicants: Public Service Company of New Mexico.

Description: Annual Filing of Post-Employment Benefits Other than Pensions for 2025 of Public Service Company of New Mexico.

Filed Date: 4/1/25.

Accession Number: 20250401-5621.

Comment Date: 5 p.m. ET 4/22/25.

Docket Numbers: ER25-1867-000.

Applicants: Black Hills Power, Inc.

Description: § 205(d) Rate Filing: Hughes Transmission Interconnection Agreement to be effective 6/3/2025.

Filed Date: 4/3/25.

Accession Number: 20250403-5085.

Comment Date: 5 p.m. ET 4/24/25.

Docket Numbers: ER25-1868-000.

Applicants: Portland General Electric Company.

Description: § 205(d) Rate Filing: Revisions to Portland General Elec. OATT to Implement EDAM to be effective 6/2/2025.

Filed Date: 4/3/25.

Accession Number: 20250403-5095.

Comment Date: 5 p.m. ET 4/24/25.

Docket Numbers: ER25-1869-000.

Applicants: PJM Interconnection, L.L.C.

Description: § 205(d) Rate Filing: Original NSA, SA No. 7635; Queue No. AF2-134 to be effective 6/3/2025.

Filed Date: 4/3/25.

Accession Number: 20250403-5099.

Comment Date: 5 p.m. ET 4/24/25.

Docket Numbers: ER25-1870-000.

Applicants: AEP Texas Inc.

Description: § 205(d) Rate Filing: AEPTX-Gunnar Reliability Project Amend Generation Interconnection Agreement to be effective 3/21/2025.

Filed Date: 4/3/25.

Accession Number: 20250403-5115.

Comment Date: 5 p.m. ET 4/24/25.

Docket Numbers: ER25-1871-000.

Applicants: Hawks Nest Hydro LLC.

Description: Initial Rate Filing: Amended and Restated Shared Facilities Agreement to be effective 4/4/2025.

Filed Date: 4/3/25.

Accession Number: 20250403-5120.

Comment Date: 5 p.m. ET 4/24/25.

Docket Numbers: ER25-1872-000.

Applicants: FRP Caldwell Solar, LLC.

Description: § 205(d) Rate Filing: Application for Market-Based Rate Authorization—FRP Caldwell Solar, LLC to be effective 6/3/2025.

Filed Date: 4/3/25.

Accession Number: 20250403-5142.

Comment Date: 5 p.m. ET 4/24/25.

Docket Numbers: ER25-1873-000.

Applicants: FRP Forest Trail Solar, LLC.

Description: § 205(d) Rate Filing: Application for MBR Authorization—FRP Forest Trail Solar, LLC to be effective 6/3/2025.

Filed Date: 4/3/25.

Accession Number: 20250403-5144.

Comment Date: 5 p.m. ET 4/24/25.

Docket Numbers: ER25-1874-000.

Applicants: FRP Miller Solar, LLC.

Description: § 205(d) Rate Filing: Application for Market-Based Rate Authorization—FRP Miller Solar, LLC to be effective 6/3/2025.

Filed Date: 4/3/25.

Accession Number: 20250403-5145.

Comment Date: 5 p.m. ET 4/24/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: April 3, 2025.
Carlos D. Clay,
Deputy Secretary.

[FR Doc. 2025-06081 Filed 4-8-25; 8:45 am]

BILLING CODE 6717-01-P